DEPARTMENT OF HOMELAND SECURITY

U.S. Citizenship and Immigration Services

Agency Information Collection Activities: Form I-602; Extension of an Existing Information Collection; Comment Request

ACTION: 30-Day Notice of Information Collection Under Review; Form I-602, Application by Refugee for Waiver of Grounds of Excludability; OMB Control No. 1615-0069.

The Department of Homeland Security, U.S. Citizenship and Immigration Services (USCIS) will be submitted the following information collection request to the Office of Management and Budget (OMB) for review and clearance in accordance with the Paperwork Reduction Act of 1995. The information collection notice was previously published in the Federal Register on August 19, 2011, at 76 FR 51997, allowing for a 60-day public comment period. USCIS received comments from one commenter in response to the 60-day notice. A discussion of the comments and USCIS' responses are addressed in item 8 of the supporting statement that can be viewed at: http://www.regulations.gov.

The purpose of this notice is to allow an additional 30 days for public comments. Comments are encouraged and will be accepted until December 28, 2011. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: Sunday Aigbe, Chief, Regulatory Products Division, Office of the Executive Secretariat, USCIS, 20 Massachusetts Avenue NW., Washington, DC 20529-2020. Comments may also be submitted to DHS via facsimile to (202) 272-8352 or via email at USCISFRComment@dhs.gov, and OMB USCIS Desk Officer via facsimile at (202) 395-5806 or via oira_submission@omb.eop.gov. When submitting comments by email please make sure to add OMB Control Number 1615-0069 in the subject box.

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of an existing information collection.

(2) Title of the Form/Collection: Application by Refugee for Waiver of Grounds of Excludability.

(3) Agency form number, if any, and the applicable component of the Department of Homeland Security sponsoring the collection: Form I-602; U.S. Citizenship and Immigration Services (USCIS).

(4) Affected public who will be asked or required to respond, as well as a brief abstract: Primary: Individuals or households. The Application by Refugee for Waiver of Grounds of Excludability, Form I-602, is necessary to establish eligibility for waiver of excludability based on humanitarian, family unity, or public interest.

(5) An estimate of the total number of respondents and the amount of time estimated for an average respondent to respond: 2,500 responses at 15 minutes (.25) per response.

(6) An estimate of the total public burden (in hours) associated with the collection: 625 annual burden hours.

If you need a copy of the information collection instrument, please visit the Web site at: http://www.regulations.gov.

If additional information is required contact: USCIS, Regulatory Products Division, Office of the Executive Secretariat, 20 Massachusetts Avenue NW., Washington, DC 20529-2020, telephone (202) 272-8377.

Dated: November 22, 2011.
Sunday Aigbe,
Chief, Regulatory Products Division, Office of the Executive Secretariat, U.S. Citizenship and Immigration Services, Department of Homeland Security.

[FR Doc. 2011-30516 Filed 11-25-11; 8:45 am]

BILLING CODE 9111-97-P